DEPARTMENT OF TRANSPORTATION

Federal Railroad Administration

[Docket Number FRA-2013-0119]

Petition for Waiver of Compliance

In accordance with part 211 of Title 49 Code of Federal Regulations (CFR), this document provides the public notice that by a document dated January 17, 2013, Railserve, Inc. (RASX) petitioned the Federal Railroad Administration (FRA) for a waiver of compliance from certain provisions of the Federal railroad safety regulations contained at 49 CFR part 223, Safety Glazing Standards—Locomotives, Passenger Cars and Cabooses. FRA assigned the petition Docket Number FRA-2013-0119.

RASX of Atlanta, GA, petitioned for a permanent waiver of compliance for 10 locomotives from the requirements of 49 CFR 223.11, Requirements for existing locomotives, which require certified glazing in all windows. The reporting marks on these locomotives are RASX 103, RASX 356, RASX 1077, RASX 1810, RASX 2524, RASX 4487, RASX 4489, RASX 8049, RASX 8959, and RASX 8999.

These locomotives are used in switching operations inside the DOW A and B Chemical Plants in Freeport, TX. The switching operations involved interchange with the Union Pacific Railroad for inbound and outbound cars on general system railroad trackage that is less than one-quarter of a mile long. RASX stated that there is no history of vandalism at the DOW A and B Chemical Plants in Freeport, TX, and that all of the locomotives are parked inside the plants when not in use. The top speed of operations is 5 mph. RASX also stated that to install glass that meets FRA specifications would be cost prohibitive.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-00952 Filed 1-17-14; 8:45 am]

BILLING CODE 4910-06-P